DEPARTMENT OF TRANSPORTATION

Surface Transportation Board

[STB Docket Nos. AB-486 (Sub-No. 3X) and AB-33 (Sub-No. 155X)]

Kyle Railroad Company—Discontinuance Exemption—in Marshall, Washington, and Cloud Counties, KS and Union Pacific Railroad Company—Abandonment Exemption—in Marshall, Washington, and Cloud Counties, KS

On August 25, 2000, Kyle Railroad Company (KYLE) and Union Pacific Railroad Company (UP) jointly filed with the Surface Transportation Board (Board) a petition under 49 U.S.C. 10502 for exemption from the provisions of 49 U.S.C. 10903 for UP to abandon and KYLE to discontinue service on a line of railroad known as the Frankfort Branch, between milepost 409.1 near Frankfort and milepost 472.0 at Ames, in Marshall, Washington, and Cloud Counties, KS, a distance of 60.12 miles.¹ The line traverses U.S. Postal Service Zip Codes 66411, 66427, 66548, 66933, 66937, 66938, 66943, 66953, and 66962, and includes stations at Blue Rapids (milepost 425.6), Waterville (milepost 430.5), Barnes (milepost 437.7), Greenleaf (milepost 443.6), Linn (milepost 450.6), Palmer (milepost 455.4), Clifton (milepost 464.4), and Clyde (milepost 471.0).

¹ Petitioners state that a milepost equation of 421.10=423.88, near Blue Rapids, KS, makes the line 2.78 miles shorter than the terminal mileposts would otherwise indicate.

The line does not contain federally granted rights-of-way. Any documentation in petitioners' possession will be made available promptly to those requesting it.

The interest of railroad employees will be protected by the conditions imposed in Oregon Short Line R. Co.—Abandonment—Goshen, 360 I.C.C. 91 (1979).

By issuing this notice, the Board is instituting an exemption proceeding pursuant to 49 U.S.C. 10502(b). A final decision will be issued by December 13, 2000.

Any offer of financial assistance (OFA) under 49 CFR 1152.27(b)(2) will be due no later than 10 days after service of a decision granting the petition for exemption. Each offer must be accompanied by a $1,000 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than October 4, 2000. Each trail use request must be accompanied by a $150 filing fee. See 49 CFR 1002.2(f)(27).

All filings in response to this notice must refer to STB Docket No. AB-486 (Sub-No. 3X) and STB Docket No. AB-33 (Sub-No. 155X) and must be sent to: (1) Surface Transportation Board, Office of the Secretary, Case Control Unit, 1925 K Street, NW., Washington, DC 20423-0001; and (2) Fritz R. Kahn, 1920 N Street, NW., 8th floor, Washington, DC 20036-1601. Replies to the petition are due on or before October 4, 2000.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at “WWW.STB.DOT.GOV.”

Decided: September 7, 2000.
By the Board, David M. Konschnik, Director, Office of Proceedings.
Vernon A. Williams,
Secretary.

[FR Doc. 00-23630 Filed 9-13-00; 8:45 am]

BILLING CODE 4915-00-P